AGENCY FOR INTERNATIONAL DEVELOPMENT

48 CFR Parts 727, 742, and 752

RIN 0412-AA90

USAID Acquisition Regulation: United States Agency for International Development (USAID) Acquisition Regulation (AIDAR): Planning, Collection, and Submission of Digital Information as Well as Submission of Activity Monitoring, Evaluation, and Learning Plan to USAID

AGENCY: U.S. Agency for International Development.

ACTION: Notice of availability of supplemental document; request for comments.

SUMMARY: This document advises the public that the U.S. Agency for International Development (USAID) is placing in the public docket a standards document related to USAID's proposed Rulemaking that, in part, proposed to add a new section to the USAID Acquisition Regulations (AIDAR). During the public comment period, USAID received comments requesting public access to the “USAID Digital Information Technical Guidelines,” which are referenced in the proposed regulatory language. This document makes those Guidelines available, renames the Guidelines to “USAID Digital Collection and Submission Standards,” and solicits public comment.

DATES: Comments on this document must be received by May 15, 2023.

ADDRESSES: Address all comments concerning this notice to Kelly Miskowski, USAID M/OAA/P, at 202-256-7378 or policymailbox@usaid.gov. Submit comments, identified by title of the action and Regulatory Information Number (RIN) through the Federal eRulemaking Portal at http://www.regulations.gov by following the instructions for submitting comments. Please include your name, company name (if any), and “0412-AA90” on any attachments. If your comment cannot be submitted using https://www.regulations.gov, please email the points of contact in the FOR FURTHER INFORMATION CONTACT section of this document for alternate instructions.

FOR FURTHER INFORMATION CONTACT: Kelly Miskowski, USAID M/OAA/P, at 202-916-2752 or policymailbox@usaid.gov for clarification of content or information pertaining to status or publication schedules. All communications regarding this rulemaking must cite AIDAR RIN No. 0412-AA90.

SUPPLEMENTARY INFORMATION: In the Federal Register of December 15, 2021, (86 FR 71216), the U.S. Agency for International Development (USAID) announced a proposed rule to implement USAID requirements for managing digital information data as a strategic asset to inform the planning, design, implementation, monitoring, and evaluation of the Agency's foreign assistance programs (2021 Digital Information NPRM). Among other changes, the 2021 Digital Information NPRM proposed adding a new section to the USAID Acquisition Regulations (AIDAR) at 48 CFR part 752 (proposed AIDAR 752.227-7x, Planning, Collection, and Submission of Digital Information to USAID). Proposed paragraph (h) refers to “USAID Digital Information Technical Guidelines” (proposed AIDAR 752.227-7x(h)) which USAID proposed to publish at data.usaid.gov/guidelines. The comment period for the 2021 Digital Information NPRM closed on February 14, 2022. During the comment period, several commenters requested access to these guidelines. In a forthcoming Final Rule for RIN 0412-AA90, USAID will revise the proposed text of AIDAR 752.227-7x(h)to refer to “USAID Digital Information Technical Standards” and direct the public to the following website: “data.usaid.gov/standards”. Therefore, USAID will use the term “standards” in this document. Through this document, USAID is making the full text of the “USAID Digital Information Technical Standards” available in the docket.

USAID is soliciting public comments on these standards, including the proposed text of AIDAR 752.227-7x(h) (86 FR at 71224) that refers to these standards. Comments received as a result of this document will be addressed as part of the forthcoming Final Rule package. The finalized standards will be published as prescribed in the Final Rule. USAID anticipates that future revisions to these standards will be published in the Federal Register. USAID expects contractors to comply with the version in effect on the date of the award. Historical versions of the standards will also be available on the website cited in the AIDAR.

Mark A. Walther,
Chief Acquisition Officer.

B. Notice of Availability of USAID Digital Collection and Submission Standards

As outlined above, USAID is announcing the availability of the following Digital Collection and Submission Standards:

Version: 1.0

Dated: [DATE OF PUBLICATION IN THE Federal Register]

USAID's Digital Collection and Submission Standards are a compendium of standards for USAID staff and contractors to use in support of USAID programs and operations. The standards in Section A are required. Section B contains recommended standards that represent industry best practices.

Section A: Required Digital Information Technical Standards

(a) File Format Standards

(1) Acceptable Non-Proprietary Formats

(i) Text and Documents

(ii) Portable Document Format (PDF/A is preferred, however .pdf is acceptable)

(iii) Plain text (.txt)

(iv) LaTeX documents (.tex)

(v) Hypertext Markup Language (.html)

(vi) Open Document Format (.odt)

(vii) Extensible Markup Language (.xml)

(viii) JavaScript Object Notation (.json)

(2) Tables, Spreadsheets, and Databases

(i) Comma-Separated Values (.csv)

(ii) Tab-separated tables (.txt—sometimes .tsv)

(iii) Comma-separated tables (.csv or .txt)

(iv) Other standard delimiter (e.g. colon, pipe)

(v) Fixed-width

(vi) OpenDocument Spreadsheet (.ods)

(3) Audio Files

(i) WAVE (.wav)

(ii) FLAC (.flac)

(iii) MPEG-3

(iv) MP3

(4) Image Files

(i) JPEG (.jpg or .jp2)

(ii) Portable Network Graphics (.png)

(iii) TIFF (.tiff or .tif)

(iv) Portable Document Format (.pdf)

(5) Video Files

(i) Video File (.mov)

(ii) MPEG-4 (mp4)

(iii) JPEG2 2000 (mj2)

(6) Geospatial Files

(i) QGIS Project (.qgs)

(ii) ESRI Shapefile (.shp, .shx, .dbf)

(iii) Annotated TIFF Raster Files (.tif)

(iv) Keyhole Mark Language (.kml)

(v) Geographic Data Format based on JSON (.geojson)

(vi) Google Earth GIS Format (.kml, .kmz)

(vii) Well Known Text for Spatial Objects (.wkt)

(viii) Raster GIS File Format

(ix) Unidata Scientific Data Format

(b) Subject Area Standards

(1) Narrative Text

(i) Digital narrative text that is written in the English language, including narrative about USAID programs and operations, must comply with the Plain Writing Act of 2010 and associated guidelines and resources found on the federal plain language website. Because USAID may publish a narrative in keeping with the U.S. Government legislative requirements (e.g. the Foreign Aid Transparency and Accountability Act of 2016) and other transparency commitments (e.g. International Aid Transparency Initiative; Open Government Partnership) or Freedom of Information Act requests, the narrative must be clear, thorough, and descriptive to facilitate public understanding.

(2) Geospatial

(i) The location(s) where an activity is implemented must be collected at the second level administrative boundary (e.g. state, district, county, province) or more granular administrative boundary when appropriate. USAID follows the Geopolitical Entities, Names, and Codes (GENC) Standard and additional geospatial data standards as outlined in ADS 579saa “Geographic Data Collection and Submission Standards.”

(3) Date

(i) YYYY-MM-DD

Section B: Recommended Digital Information Technical Standards

USAID recommends the following standards that have not been formally adopted as a requirement by the Agency but encouraged and recommended for use to improve the management, quality, and usefulness of the data. USAID recommends the use of the following standards when appropriate and practicable:

(a) Code, Algorithm, and Analytical Files

(1) Javascript (.js)

(2) Java

(3) .NET

(4) Python (.py)

(5) Ruby (.rb)

(6) R (.r)

(7) SQL

(b) GS1 Standards—USAID-funded programs beyond Global Health are strongly recommended to adopt GS1 Standards for the supply chain to facilitate product identification, location identification, and product master data of Agency-funded commodities. Additional guidance for implementation of GS1 Standards can be found here.

(c) Statistical Data and Metadata eXchange (SDMX) for statistical data

(d) CGIAR Ontologies for crop and agronomy ontology

(e) FHIR for healthcare data exchange

(f) ISO 8601 for Date, Time, and Time Zone

(g) Open Geospatial Consortium (OGC) Standards for geospatial data. The Open Geospatial Consortium (OGC) is an international consortium of more than 500 businesses, government agencies, research organizations, and universities driven to make geospatial (location) information and services FAIR—Findable, Accessible, Interoperable, and Reusable.

(h) International Aid Transparency Initiative (IATI)

(i) FAIR Data Principles—To the extent possible, USAID-funded data and metadata must align with data principles which are Findable, Accessible, Interoperable, and Reusable.

(j) Metadata Creation Tools:

(1) USGS TKME—A Windows platform tool for creating FGDC-CSDGM which can be configured for Biological Data Profile and other extensions. The software program is closely aligned with the Metadata Parser, and can be configured for French and Spanish.

(2) mdEditor—Create ISO and FGDC-CSDGM metadata with this web-based tool.

(3) Data dictionary conversion service—Convert a data dictionary table to/from metadata format (instructions).

(4) USDA Metavist—A desktop metadata editor for creating FGDC-CSDGM for geospatial metadata. Includes the Biological Data Profile (version 1.6). Produced and maintained by the USDA Forest Service. Download the USGS Alaska Science Center (ASC) Metavist User Guide [PDF] to learn more about the tool and ASC best practices for authors.

(5) Microsoft XML Notepad—A simple intuitive user interface for browsing and editing XML files. Does not automatically produce FGDC-CSDGM records but allows easy editing and validation of existing metadata records. See Advanced Users to learn how to configure this tool.

[FR Doc. 2023-06998 Filed 4-13-23; 8:45 am]

BILLING CODE 6116-01-P